SECURITIES AND EXCHANGE COMMISSION

[Release No. 34-60418; File No. SR-NYSEAmex-2009-50]

Self-Regulatory Organizations; NYSE Amex LLC; Notice of Filing and Immediate Effectiveness of Proposed Rule Change To Duplicate in the NYSE Amex Equities Price List the Section of the NYSE Amex Options Price List Setting Forth Regulatory Fees Applicable to Member Organizations

August 3, 2009.

Pursuant to Section 19(b)(1) ¹ of the Securities Exchange Act of 1934 (“Act”) ², and Rule 19b-4 thereunder,³ notice is hereby given that on July 27, 2009, NYSE Amex LLC (“NYSE Amex” or the “Exchange”) filed with the Securities and Exchange Commission (“Commission”) the proposed rule change as described in Items I, II and III below, which Items have been prepared by the self-regulatory organization. The Exchange has designated this proposal eligible for immediate effectiveness pursuant to Rule 19b-4(f)(2).⁴ The Commission is publishing this notice to solicit comments on the proposed rule change from interested persons.

¹ 15 U.S.C. 78s(b)(1).

² 15 U.S.C. 78a.

³ 17 CFR 240.19b-4.

⁴ 17 CFR 240.19b-4(f)(2).

I. Self-Regulatory Organization's Statement of the Terms of Substance of the Proposed Rule Change

The Exchange proposes to duplicate in the NYSE Amex Equities Price List the section of the NYSE Amex Options Price List setting forth regulatory fees applicable to member organizations. The text of the proposed rule change is available at the Exchange, the Commission's Public Reference Room, and http://www.nyse.com.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and Statutory Basis for, the Proposed Rule Change

1. Purpose

Member organizations of NYSE Amex are subject to the same regulatory fees regardless of whether they hold licenses to trade equities or options.⁵ Currently, the schedule of regulatory fees applicable to NYSE Amex member organizations is included only in the NYSE Amex Options Price List. Member organizations that hold only licenses to trade equity securities may not be familiar with the NYSE Amex Options Price List and may therefore not know where to find the schedule of regulatory fees. Additionally, the fact that the schedule of regulatory fees is not included in the NYSE Amex Equities Price List may cause confusion and lead to the erroneous impression that these regulatory fees do not apply to member organizations that hold only equity trading licenses. Consequently, NYSE Amex proposes to duplicate in its entirety in the NYSE Amex Equities Price List the regulatory fee section included in the NYSE Amex Options Price List. In doing so, NYSE Amex is not proposing to amend in any way the regulatory fees that member organizations currently pay. Going forward, NYSE Amex will make parallel changes to the two price lists whenever it amends any fees included in the schedule of regulatory fees.

⁵ Registration fees are currently being waived through September 30, 2009 for NYSE member organizations that automatically became member organizations of NYSE Amex by operation of NYSE Amex Equities Rule 2 at the time of relocation of all NYSE Amex equities trading to the to the NYSE trading facilities and systems located at 11 Wall Street, New York, NY.

2. Statutory Basis

The Exchange believes that the proposed rule change is consistent with the provisions of Section 6 ⁶ of the Securities Exchange Act of 1934 (the “Act”) ⁷ in general and Section 6(b)(4) of the Act ⁸ in particular, in that it is designed to provide for the equitable allocation of reasonable dues, fees and other charges among its members and other persons using its facilities.

⁶ 15 U.S.C. 78f.

⁷ 15 U.S.C. 78a et seq.

⁸ 15 U.S.C. 78f(b)(4).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants or Others

No written comments were solicited or received with respect to the proposed rule change.

III. Date of Effectiveness of the Proposed Rule Change and Timing for Commission Action

The foregoing rule change is effective upon filing pursuant to Section 19(b)(3)(A) ⁹ of the Act and subparagraph (f)(2) of Rule 19b-4 ¹⁰ thereunder, because it establishes a due, fee, or other charge imposed by NYSE Amex.

⁹ 15 U.S.C. 78s(b)(3)(A).

¹⁰ 17 CFR 240.19b-4(f)(2).

At any time within 60 days of the filing of the proposed rule change, the Commission may summarily abrogate such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSEAmex-2009-50 on the subject line.

Paper Comments

• Send paper comments in triplicate to Elizabeth M. Murphy, Secretary, Securities and Exchange Commission, 100 F Street, NE., Washington, DC 20549-1090.

All submissions should refer to File Number SR-NYSEAmex-2009-50. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. and 3 p.m. Copies of such filing also will be available for inspection and copying at the principal office of the Exchange. All comments received will be posted without change; the Commission does not edit personal identifying information from submissions. You should submit only information that you wish to make available publicly. All submissions should refer to File No. SR-NYSEAmex-2009-50 and should be submitted on or before August 31, 2009.

¹¹ 17 CFR 200.30-3(a)(12).

For the Commission, by the Division of Trading and Markets, pursuant to delegated authority.¹¹
Florence E. Harmon,
Deputy Secretary.

[FR Doc. E9-19017 Filed 8-7-09; 8:45 am]

BILLING CODE 8010-01-P